DEPARTMENT OF COMMERCE

National Oceanic and Atmospheric Administration

RIN 0648-XD752

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a Webinar meeting of its Standing and Special Reef Fish Scientific Statistical Committee (SSC).

DATES: The Webinar will be held, Thursday, February 19, 2015, from 2 p.m. to 4 p.m., Eastern Time.

ADDRESSES:

Meeting Address: The meeting will be held via Webinar—registration information can be found at http://gulfcouncil.org/council_meetings/panel_committee_meetings.php.

Council Address: Gulf of Mexico Fishery Management Council, 2203 North Lois Avenue, Suite 1100, Tampa, FL 33607.

FOR FURTHER INFORMATION CONTACT: Steven Atran, Senior Fishery Biologist, Gulf of Mexico Fishery Management Council; telephone: (813) 348-1630; fax: (813) 348-1711; email: mailto:steven.atran@gulfcouncil.org.

SUPPLEMENTARY INFORMATION: The items of discussion on the agenda are as follows:

Standing and Special Reef Fish SSC Agenda, Thursday, February 19, 2015, From 2 p.m. Until 4 p.m., Eastern Time

(1) Review Provisional 2014 Red Snapper Estimates.

(2) Review Red Snapper ABC Recommendation.

(3) Other Business.

—Adjourn—

For meeting materials see folder “SSC meeting-2015-02 webinar” on the Gulf Council file server. To access the file server, the URL is https://public.gulfcouncil.org:5001/webman/index.cgi, or go to the Council's Web site and click on the FTP link in the lower left of the Council Web site (http://www.gulfcouncil.org). The username and password are both “gulfguest”. The Agenda is subject to change.

The meeting will be webcast over the Internet. A link to the webcast will be available on the Council's Web site http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 2, 2015.
Tracey L. Thompson,
Acting Deputy Director, Office of Sustainable Fisheries, National Marine Fisheries Service.

[FR Doc. 2015-02287 Filed 2-4-15; 8:45 am]

BILLING CODE 3510-22-P